DEPARTMENT OF COMMERCE

International Trade Administration

A-588-804

Antifriction Bearings (Other Than Tapered Roller Bearings) and Parts Thereof from Japan: Amended Final Results of Antidumping Duty Administrative Reviews

AGENCY: Import Administration, International Trade Administration, Department of Commerce.

SUMMARY: On June 27, 2005, the United States Court of International Trade (CIT) affirmed the Department of Commerce's (the Department's) redetermination on remand of the final results of the antidumping duty administrative reviews on antifriction bearings (other than tapered roller bearings) and parts thereof from Japan. See NSK Ltd. v. United States, Consol. Court No. 98-07-02527, slip op 05-77 (CIT 2005). The Department is now issuing these amended final results reflecting the court's decision.

EFFECTIVE DATE: October 5, 2005.

FOR FURTHER INFORMATION CONTACT: Yang Jin Chun or Richard Rimlinger, AD/CVD Operations, Office 5, Import Administration, U.S. Department of Commerce, 14th Street and Constitution Avenue, NW, Washington, DC 20230; telephone: (202) 482-5760 or (202) 482-4477, respectively.

SUPPLEMENTARY INFORMATION:

Background

On June 18, 1998, the Department published the final results of administrative reviews of the antidumping duty orders on antifriction bearings (other than tapered roller bearings) and parts thereof from Japan for the period May 1, 1996, through April 30, 1997. See Antifriction Bearings (Other Than Tapered Roller Bearings) and Parts Thereof from France, et al.; Final Results of Antidumping Duty Administrative Reviews, 63 FR 33320 (June 18, 1998). NSK Ltd. and NSK Corporation (hereafter “NSK”) filed a lawsuit challenging the final results. On July 8, 2002, the CIT affirmed the Department's decision to classify NSK's repacking expenses as a selling expense under section 772(d)(1)(B) of the Tariff Act of 1930, as amended (the Act). See NSK Ltd. v. United States, 217 F. Supp. 2d 1291 (CIT 2002).

NSK appealed the CIT's judgment to the United States Court of Appeals for the Federal Circuit (CAFC). The CAFC vacated and remanded the Department's decision to classify NSK's repacking expenses as selling expenses and not movement expenses under section 772(d)(1)(B) of the Act. On February 18, 2005, pursuant to the CAFC's decision, the CIT remanded this case to the Department to revisit its classification of U.S. repacking expenses as selling expenses and provide an explanation for the inconsistent treatment of U.S. repacking expense, U.S. warehousing expense, and U.S. expense for shipping from warehouse to customer. See NSK Ltd. v. United States, Consol. Court No. 98-07-02527, slip op. 05-26 (CIT 2005). In accordance with the CIT's remand order in NSK Ltd., slip op. 05-26, the Department filed its remand results on May 18, 2005. In those remand results, the Department reclassified repacking expenses as movement expenses and recalculated NSK's margins accordingly.

On June 27, 2005, the CIT affirmed the Department's final results of remand redetermination in their entirety. See NSK Ltd., slip op 05-77. On July 14, 2005, the Department published Antifriction Bearings (Other Than Tapered Roller Bearings) and Parts Thereof from Japan: Notice of Court Decision Not in Harmony, 70 FR 40688 (July 14, 2005). There was no appeal of the CIT's decision to the CAFC within the appeal period. Therefore, the CIT's decision is now final and conclusive.

Amendment to Final Results

We are now amending the final results of these reviews to reflect the final and conclusive decision of the court. The changes to our calculations with respect to NSK resulted in a change in the weighted-average margin for ball bearings from 2.35 percent to 2.34 percent and a change in the weighted-average margin for cylindrical roller bearings from 2.21 percent to 2.19 percent for the period of review. The Department will instruct U.S. Customs and Border Protection to liquidate entries of the ball bearings and cylindrical roller bearings from Japan produced by, exported to, or imported into the United States by NSK during the review period at the assessment rates the Department calculated for these amended final results of reviews.

We are issuing and publishing these results in accordance with sections 751(a)(1) and 777(i)(1) of the Act.

Dated: September 29, 2005.
Barbara E. Tillman,
Acting Assistant Secretary for Import Administration.

[FR Doc. E5-5460 Filed 10-4-05; 8:45 am]

BILLING CODE 3510-DS-S